ENVIRONMENTAL PROTECTION AGENCY

40 CFR Part 52

[CA 030-EOC; FRL-6885-8]

Revisions to the California State Implementation Plan, Bay Area Air Quality Management District; Extension of Comment Period

AGENCY: Environmental Protection Agency (EPA).

ACTION: Proposed rule; extension of comment period.

SUMMARY: EPA is extending the comment period for action proposed on September 18, 2000 (65 FR 56284).

DATE: Any comments on this proposal must arrive by November 17, 2000.

ADDRESSES: Mail comments to David Wampler, Permits Office (Air-3), U.S. Environmental Protection Agency, Region IX, 75 Hawthorne Street, San Francisco, CA 94105-3901.

FOR FURTHER INFORMATION CONTACT: David Wampler, Permits Office (Air-3), U.S. Environmental Protection Agency, Region IX, (415) 744-1256.

SUPPLEMENTARY INFORMATION: On September 18, 2000, EPA proposed the following revisions to the California State Implementation Plan (SIP).

Local agency | Rule No. | Proposed action
Bay Area AQMD | Regulation 1 | Approval.
Bay Area AQMD | Regulation 2, Rules 1, 2, and 4 | Limited Approval/Disapproval.

The proposed action provided a 30-day public comment period. In response to a request from California Council for Environmental and Economic Balance submitted by telephone and in writing on September 28, 2000, EPA is extending the comment period for an additional 30 days.

Dated: October 3, 2000.
Felicia Marcus,
Regional Administrator, Region IX.

[FR Doc. 00-26506 Filed 10-13-00; 8:45 am]

BILLING CODE 6560-50-P